OFFICE OF PERSONNEL MANAGEMENT

Excepted Service

AGENCY: U.S. Office of Personnel Management (OPM).

ACTION: Notice.

SUMMARY: This notice identifies Schedule A, B, and C appointing authorities applicable to single agencies that were established or revoked from January 1, 2013, to January 31, 2013.

FOR FURTHER INFORMATION CONTACT: Senior Executive Resources Services, Senior Executive Service and Performance Management, Employee Services, 202-606-2246.

SUPPLEMENTARY INFORMATION: In accordance with title 5 of the Code of Federal Regulations (CFR) 213.103, Schedule A, B, and C appointing authorities that are available for use by all agencies are codified in the (CFR). Schedule A, B, and C appointing authorities applicable to a single agency are not codified in the CFR, but the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

The following Schedule A authority was approved in January 2013:

94. Department of the Transportation (Sch. A, 213.3194)

(f) Up to 40 positions at the GS-13 through 15 grade levels and within authorized senior-level (SL) allocations necessary to support the following credit agency programs of the Department: The Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

Schedule B

No schedule B authorities to report during January 2013.

Schedule C

The following Schedule C appointing authorities were approved during January 2013:

Agency name | Organization name | Position title | Authorization No. | Effective date
DEPARTMENT OF AGRICULTURE | Office of the Assistant Secretary for Congressional Relations | Special Assistant | DA130022 | 1/25/2013
DEPARTMENT OF COMMERCE | Office of Executive Secretariat | Confidential Assistant | DC130017 | 1/4/2013
COUNCIL ON ENVIRONMENTAL QUALITY | Council on Environmental Quality | Special Assistant Land and Water Ecosystems | EQ130001 | 1/29/2013
DEPARTMENT OF DEFENSE | Office of Assistant Secretary of Defense (Public Affairs) | Speechwriter (2) | DD130025 | 1/11/2013
|  |  | DD130026 | 1/18/2013
| Office of Principal Deputy Under Secretary for Policy | Special Assistant for Policy | DD130031 | 1/25/2013
DEPARTMENT OF EDUCATION | Office of Planning, Evaluation and Policy Development | Deputy Assistant Secretary for Planning and Policy Development | DB120098 | 1/11/2013
| Office of the Under Secretary | Confidential Assistant | DB120101 | 1/11/2013
| Office of Communications and Outreach | Deputy Assistant Secretary for Communication Development | DB130008 | 1/17/2013
| Office of the Under Secretary | Special Assistant | DB130011 | 1/25/2013
ENVIRONMENTAL PROTECTION AGENCY | Office of the Associate Administrator for External Affairs and Environmental Education | Press Secretary | EP130011 | 1/24/2013
FEDERAL HOUSING FINANCE AGENCY | Federal Housing Finance Agency | Confidential Assistant | HA130001 | 1/16/2013
DEPARTMENT OF HEALTH AND HUMAN SERVICES | Office of the Assistant Secretary for Planning and Evaluation | Director of Coverage Policy (Office of Health Reform) | DH130018 | 1/17/2013
| Office of the Secretary | Confidential Assistant | DH130020 | 1/24/2013
DEPARTMENT OF THE INTERIOR | Secretary's Immediate Office | Press Secretary | DI130007 | 1/15/2013
DEPARTMENT OF LABOR | Employment and Training Administration | Policy Advisor | DL130007 | 1/25/2013
OFFICE OF MANAGEMENT AND BUDGET | Communications | Press Secretary | BO130007 | 1/11/2013
SECURITIES AND EXCHANGE COMMISSION | Division of Investment Management | Confidential Assistant | SE130002 | 1/11/2013
SMALL BUSINESS ADMINISTRATION | Office of Communications and Public Liaison | Deputy Press Secretary for the Office of Communications and Public Liaison | SB130002 | 1/16/2013
DEPARTMENT OF STATE | Bureau of East Asian and Pacific Affairs | Deputy Assistant Secretary | DS130027 | 1/11/2013

The following Schedule C appointing authorities were revoked during January 2013:

Agency | Organization | Position title | Authorization No. | Vacate date
DEPARTMENT OF COMMERCE | Bureau of the Census | Director, Office of Faith Based and Neighborhood Partnerships | DC090123 | 1/5/2013
| Assistant Secretary and Director General for United States and Foreign Commercial Service | Executive Assistant | DC110120 | 1/13/2013
| Office of the General Counsel | Senior Advisor | DC110128 | 1/13/2013
DEPARTMENT OF EDUCATION | Office of the Under Secretary | Director of the White House Initiative on Historically Black Colleges and Universities | DB110085 | 1/4/2013
| Office of Innovation and Improvement | Chief of Staff | DB100070 | 1/12/2013
| Office of the Secretary | Special Assistant | DB100060 | 1/28/2013
DEPARTMENT OF ENERGY | Office of Public Affairs | Deputy Director | DE120021 | 1/11/2013
| Office of the Secretary | Special Advisor | DE120067 | 1/11/2013
| Office of Assistant Secretary for Policy and International Affairs | Special Assistant | DE120071 | 1/11/2013
DEPARTMENT OF HEALTH AND HUMAN SERVICES | Office of the Secretary | Deputy White House Liaison for Political Personnel, Boards and Commissions | DH120052 | 1/12/2013
DEPARTMENT OF HOMELAND SECURITY | Office of the General Counsel | Special Advisor to the General Counsel | DM110095 | 1/18/2013
DEPARTMENT OF HOUSING AND URBAN DEVELOPMENT | Office of Housing | Special Assistant | DU110012 | 1/3/2013
DEPARTMENT OF JUSTICE | Office of the Associate Attorney General | Senior Counsel | DJ100109 | 1/4/2013
DEPARTMENT OF LABOR | Office of Congressional and Intergovernmental Affairs | Deputy Director of Intergovernmental Affairs | DL110040 | 1/28/2013
DEPARTMENT OF STATE | Bureau of Near Eastern Affairs | Legislative Liaison Specialist | DS110052 | 1/5/2013
| Bureau of Western Hemisphere Affairs | Deputy Assistant Secretary | DS100056 | 1/24/2013
ENVIRONMENTAL PROTECTION AGENCY | Office of the Administrator | Deputy Press Secretary | EP120016 | 1/26/2013

Authority: 5 U.S.C. 3301 and 3302; E.O. 10577, 3 CFR, 1954-1958 Comp., p. 218.

John Berry,
Director, U.S. Office of Personnel Management.

[FR Doc. 2013-06123 Filed 3-15-13; 8:45 am]

BILLING CODE 6325-39-P